DEPARTMENT OF ENERGY

DOE Response to Recommendation 2007-1 of the Defense Nuclear Facilities Safety Board, Safety-Related In Situ Nondestructive Assay of Radioactive Materials

AGENCY: Department of Energy.

ACTION: Notice.

SUMMARY: The Defense Nuclear Facilities Safety Board Recommendation 2007-1, concerning Safety-Related In Situ Nondestructive Assay of Radioactive Materials was published in the Federal Register on May 2, 2007 (72 FR 24279). In accordance with section 315(b) of the Atomic Energy Act of 1954, as amended, 42 U.S.C. 2286d(b), the Secretary transmitted the following response to the Defense Nuclear Facilities Safety Board on June 28, 2007.

DATES: Comments, data, views, or arguments concerning the Secretary's response are due on or before August 13, 2007.

ADDRESSES: Send comments, data, views, or arguments concerning the Secretary's response to: Defense Nuclear Facilities Safety Board, 625 Indiana Avenue, NW., Suite 700, Washington, DC 20004.

FOR FURTHER INFORMATION CONTACT: Mr. James Heffner, Nuclear Engineer, Departmental Representative to the Defense Nuclear Facilities Safety Board, Office of Health, Safety and Security, U.S. Department of Energy, 1000 Independence Avenue, SW., Washington, DC 20585.

Issued in Washington, DC, on July 10, 2007.
Mark B. Whitaker, Jr.,
Departmental Representative to the Defense Nuclear Facilities Safety Board, Office of Health, Safety and Security.

The Secretary of Energy

Washington, DC 20585

June 28, 2007

The Honorable A.J. Eggenberger, Chairman, Defense Nuclear Facilities Safety Board, 625 Indiana Avenue, NW., Suite 700, Washington, DC 20004-2901

Dear Mr. Chairman: The Department of Energy acknowledges receipt of the Defense Nuclear Facilities Safety Board's Recommendation 2007-1, Safety-Related In Situ Nondestructive Assay of Radioactive Materials, issued on April 25, 2007.

The Department recognizes that continuous improvement in in situ nondestructive assay (NDA) is warranted to support nuclear safety in various activities carried out at Department defense nuclear facilities and, therefore, accepts Recommendation 2007-1. Using the following approach, the Department will develop an Implementation Plan consistent with Integrated Safety Management System principles:

• Evaluate the condition of in situ NDA programs against evaluation criteria, which will be developed;

• Identify state of the practice, both commercial as well as within the Department, in training and qualification, design requirements for new facilities and equipment, standards for conducting in situ NDA, implementation of standards, and oversight;

• Identify any relevant ongoing research and development activities;

• Identify what is needed and any resulting gaps in personnel capabilities and training, equipment capabilities, policy and directives, and oversight;

• Establish requirements, programs, and guidance, as needed; and

• Develop a prioritized plan for implementing the above criteria and requirements.

I have assigned Mr. Richard Lagdon, Chief of Nuclear Safety, Office of the Under Secretary of Energy, as the Department's responsible manager for developing the Implementation Plan. He can be reached at (202) 586-9471.

Sincerely,

Samuel W. Bodman

[FR Doc. 07-3431 Filed 7-12-07; 8:45 am]

BILLING CODE 6450-01-P